DEPARTMENT OF TRANSPORTATION

Pipeline and Hazardous Materials Safety Administration

[Docket No. PHMSA-2013-0176, Notice No. 13-11]

Safety Advisory: Unauthorized Filling of Compressed Gas Cylinders

AGENCY: Pipeline and Hazardous Materials Safety Administration (PHMSA), DOT.

ACTION: Safety Advisory Notice.

SUMMARY: This is to notify the public that PHMSA has confirmed that North American Coil and Beverage Group, 15641 E 10 Mile Road, Eastpointe, MI, 48021, improperly filled and offered for transportation high pressure compressed gas cylinders without verifying that they met the appropriate safety requirements for continued use. The Eastpointe Michigan Fire Department alerted the Michigan State Police, who in turn alerted PHMSA of an incident on June 25, 2013, in which a high pressure DOT 3A 1800 cylinder filled and provided by North American Coil and Beverage Group with carbon dioxide catastrophically burst at Sullivan's Bar in Eastpointe, Michigan

FOR FURTHER INFORMATION CONTACT: North American Coil and Beverage Group: Mr. Len Santamaria, Manager, 15641 E 10 Mile Road, Eastpointe, Michigan 48021, Telephone (586) 775-7229, to arrange for the return of these empty cylinders.

SUPPLEMENTARY INFORMATION: PHMSA determined that North American Coil and Beverage Group improperly filled various types of high pressure US DOT and special permit cylinders with compressed gases without verifying that they met the appropriate safety requirements for continued use. The DOT 3A 1800 cylinder that failed was manufactured by Morcar in 1973 and had not been requalified since May, 1996. DOT 3A 1800 cylinders used in carbon dioxide service must be successfully requalified through a visual inspection and a pressure test at least once every 5 years. Cylinders that are not properly and routinely inspected and requalified as required may not possess the structural integrity to safely contain their contents under pressure during normal transportation and use. Extensive property damage, serious personal injury, or death could result from a rupture of a cylinder.

Because North American Coil and Beverage Group did not have their cylinders requalified prior to filling them and the fact that one catastrophically failed, PHMSA questions the condition of all of the cylinders owned and filled by North American Coil and Beverage. These cylinders should be considered unsafe and unauthorized for the filling of hazardous material unless and until they are first tested properly by an individual or company authorized by DOT to requalify DOT specification cylinders. Anyone who had their carbonated beverage service cylinders filled and provided by North American Coil and Beverage Group is advised to remove these cylinders from service immediately and contact a cylinder filler to have the cylinders depressurized. North American Coil and Beverage Group will contact their customers with further instructions on returning the empty cylinders.

Issued in Washington, DC, on July 12, 2013.
Magdy El-Sibaie,
Associate Administrator for Hazardous Materials Safety, Pipeline and Hazardous Materials Safety Administration.

[FR Doc. 2013-17121 Filed 7-16-13; 8:45 am]

BILLING CODE 4910-60-P